DEPARTMENT OF COMMERCE

Foreign-Trade Zones Board

[B-43-2025]

Foreign-Trade Zone 49; Application for Expansion of Subzone 49H; Firmenich, Inc.; Monmouth Junction, New Jersey

An application has been submitted to the Foreign-Trade Zones (FTZ) Board by the Port Authority of NY and NJ, grantee of FTZ 49, requesting an expansion of Subzone 49H, Site 3, on behalf of Firmenich, Inc. (Firmenich). The application was submitted pursuant to the provisions of the Foreign-Trade Zones Act, as amended (19 U.S.C. 81a-81u), and the regulations of the FTZ Board (15 CFR part 400). It was formally docketed on September 8, 2025.

The applicant is requesting authority to expand the subzone site by 0.78 acres, increasing the site to 2.27 acres total. No authorization for additional production activity has been requested at this time.

In accordance with the FTZ Board's regulations, Juanita Chen of the FTZ Staff is designated examiner to review the application and make recommendations to the FTZ Board.

Public comment is invited from interested parties. Submissions shall be addressed to the FTZ Board's Executive Secretary and sent to: ftz@trade.gov. The closing period for their receipt is October 21, 2025. Rebuttal comments in response to material submitted during the foregoing period may be submitted through November 5, 2025.

A copy of the application will be available for public inspection in the “Online FTZ Information Section” section of the FTZ Board's website, which is accessible via www.trade.gov/ftz.

For further information, contact Juanita Chen at juanita.chen@trade.gov.

Dated: September 8, 2025.
Elizabeth Whiteman,
Executive Secretary.

[FR Doc. 2025-17468 Filed 9-10-25; 8:45 am]

BILLING CODE 3510-DS-P